COMMISSION ON CIVIL RIGHTS

Agenda and Notice of Public Meeting of the Illinois Advisory Committee

Notice is hereby given, pursuant to the provisions of the rules and regulations of the U.S. Commission on Civil Rights (Commission), and the Federal Advisory Committee Act (FACA), that a briefing meeting of the Illinois Advisory Committee to the Commission will convene at 10 a.m. and adjourn at 4 p.m. on August 17, 2007, at the Dirksen Federal Building, Courtroom 1719, 219 S. Dearborn St., Chicago, IL 60604. The purpose of the meeting is to gather data regarding the enforcement of prohibitions against religious discrimination in prisons. The agenda will include panels of presenters knowledgeable of the topic, including prisoners' rights advocates; state, county, and federal prison officials; clergy who serve the religious needs of inmates; and legal scholars.

Members of the public are entitled to submit written comments; the comments must be received in the regional office by August 24, 2007. The address is 55 West Monroe Street, Suite 410, Chicago, IL 60603. Persons wishing to email their comments, or to present their comments verbally at the meeting, or who desire additional information should contact Carolyn Allen, Administrative Assistant, (312) 353-8311, TDD/TTY (312) 353-8362, or by email: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's website, http://www.usccr.gov, or to contact the Midwestern Regional Office at the above email or street address.

The meeting will be conducted pursuant to the provisions of the rules and regulations of the Commission and FACA.

Dated in Washington, DC, July 30, 2007.
Ivy Davis,
Acting Chief, Regional Programs Coordination Unit.

[FR Doc. E7-15028 Filed 8-1-07; 8:45 am]

BILLING CODE 6335-02-P